DEPARTMENT OF COMMERCE

Census Bureau

Proposed Information Collection; Comment Request; Age Search Service—Forms BC-600, Application for Search of Census Records; BC-649(L), Not Found Letter; and BC-658(L), Insufficient Information Letter

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 24, 2018.

ADDRESSES: Direct all written comments to Jennifer Jessup, Departmental Paperwork Clearance Officer, Department of Commerce, Room 6616, 14th and Constitution Avenue NW, Washington, DC 20230 (or via the internet at PRAcomments@doc.gov). You may also submit comments, identified by Docket Number USBC-2018-0012, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Debbie Johnson, Chief, Fiscal Services Office, National Processing Center. Ms. Johnson can be reached by telephone on 812-218-3053 or by email at deborah.johnson@census.gov.

SUPPLEMENTARY INFORMATION:

I. Abstract

The Census Bureau proposes an extension of the Age Search Service Program. The Age Search is a service provided by the U.S. Census Bureau for persons who need official transcripts of personal data as proof of age for pensions, retirement plans, Medicare, and Social Security. The transcripts are also used as proof of citizenship to obtain passports or to provide evidence of family relationship for rights of inheritance. The Age Search forms are used by the public in order to provide the Census Bureau with the necessary information to conduct a search of historical population decennial census records in order to provide the requested transcript. The Age Search service is self-supporting and is funded by the fees collected from the individuals requesting the service.

II. Method of Collection

The Form BC-600, Application for Search of Census Records, is a paper public-use form that is submitted by applicants requesting information from the decennial census records. This application form is available online in PDF format for individuals to download and complete. Applicants must enclose the appropriate fee by check or money order with the completed and signed Form BC-600 or BC-600(SP) and return by mail to the U.S. Census Bureau, Post Office Box 1545, Jeffersonville, Indiana 47131.

The Form BC-649(L), which is called a Not Found Letter, advises the applicant that the search for information from the census records was unsuccessful. The BC-658(L) is sent to the applicant when insufficient information has been received on which to base a search of the census records. These two forms request additional information from the applicant to aid in the search of census records.

III. Data

OMB Control Number: 0607-0117.

Form Numbers: BC-600, BC-600(SP), BC-649(L), and BC-658(L).

Type of Review: Extension of a currently approved collection.

Affected Public: Individuals or households.

Estimated Number of Respondents: 2,885 total respondents.

BC-600 2,426 respondents.

BC-649(L) 449 respondents.

BC-658(L) 10 respondents.

Estimated Time per Response:

BC-600 12 minutes.

BC-649(L) 6 minutes.

BC-658(L) 6 minutes.

Estimated Total Annual Burden Hours: 531 hours.

Estimated Total Annual Cost: $167,394. The Age Search processing fee is $65.00 per case. An additional charge of $20 per case for expedited requests requiring results within one day is also available. It is expected that 485 individuals will request the expedited service.

Respondent's Obligation: Required to obtain or retain benefits.

Legal Authority: Title 13 U.S.C., section 8.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-15974 Filed 7-25-18; 8:45 am]

BILLING CODE 3510-07-P